DEPARTMENT OF TRANSPORTATION

Federal Aviation Administration

[Summary Notice No. PE-2004-78]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on October 12, 2004.
Anthony F. Fazio,
Director, Office of Rulemaking.

Dispositions of Petitions

Docket No.: FAA-2002-13180.

Petitioner: Ryan International Airlines, Inc.

Section of 14 CFR Affected: 14 CFR 91.203(a) and (b).

Description of Relief Sought/Disposition: To permit Ryan International Airlines, Inc., to operate temporarily its U.S.-registered aircraft following the incidental loss or mutilation of that aircraft's airworthiness certificate or registration certificate, or both.

Grant, 10/1/2004, Exemption No. 6571D.

Docket No.: FAA-2003-14252.

Petitioner: Mr. Jack Oliphant.

Section of 14 CFR Affected: 14 CFR 91.109(a).

Description of Relief Sought/Disposition: To permit Mr. Jack Oliphant to conduct certain flight instruction in Beechcraft Bonanza aircraft equipped with a functioning throwover control wheel instead of functioning dual controls.

Grant, 10/1/2004, Exemption No. 7991A.

Docket No.: FAA-2002-13712.

Petitioner: Mr. Kerrick R. Philleo.

Section of 14 CFR Affected: 14 CFR 91.109(a).

Description of Relief Sought/Disposition: To permit Mr. Kerrick R. Philleo to conduct certain flight instruction in Beechcraft Bonanza and Beechcraft Debonair airplanes equipped with a functioning throwover control wheel in place of functioning dual controls.

Grant, 10/1/2004, Exemption No. 7930A.

Docket No.: FAA-2004-19150.

Petitioner: Mr. Walter B. Atkinson.

Section of 14 CFR Affected: 14 CFR 91.109(a).

Description of Relief Sought/Disposition: To permit Mr. Walter B. Atkinson to conduct certain flight training in certain Beechcraft Bonanza/Debonair/Baron airplanes that are equipped with a functioning throwover control wheel.

Grant, 10/1/2004, Exemption No. 8416.

Docket No.: FAA-2004-19178.

Petitioner: Verticare.

Section of 14 CFR Affected: 14 CFR 135.143(c)(2).

Description of Relief Sought/Disposition: To permit Verticare to operate certain aircraft under part 135 without a TSO-C112 (Mode S) transponder installed on those aircraft.

Grant, 10/4/2004, Exemption No. 8418.

Docket No.: FAA-2003-14366.

Petitioner: Baby B'Air, Inc.

Section of 14 CFR Affected: 14 CFR 91.107(a)(3)(iii)(B) and (C); 121.311(b)(2)(ii), (iii), and (c)(1); 125.211(b)(2)(ii), (iii), and (c)(1); and 135.128(a)(2)(ii), (iii), and (b)(1).

Description of Relief Sought/Disposition: To permit Baby B'Air Inc., to use the Baby B'Air Flight Vest, a vest-type, lap-held child restraint system during takeoff, landing, and movement on surface.

Denial, 10/1/2004, Exemption No. 8417.

Docket No.: FAA-2004-19145.

Petitioner: Big Sioux Aviation, Inc.

Section of 14 CFR Affected: 14 CFR 135.143(c)(2).

Description of Relief Sought/Disposition: To permit Big Sioux Aviation, Inc., to operate certain aircraft under part 135 without a TSO-C112 (Mode S) transponder installed on those aircraft.

Grant, 9/29/2004, Exemption No. 8412.

Docket No.: FAA-2001-10509.

Petitioner: Eagle Air Corporation.

Section of 14 CFR Affected: 14 CFR 135.143(c)(2).

Description of Relief Sought/Disposition: To permit Eagle Air Corporation to operate certain aircraft under part 135 without a TSO-C112 (Mode S) installed on those aircraft.

Grant, 9/21/2004, Exemption No. 8410.

Docket No.: FAA-2002-11575.

Petitioner: Rhinelander Flying Service.

Section of 14 CFR Affected: 14 CFR 135.143(c)(2).

Description of Relief Sought/Disposition: To permit Rhinelander Flying Service to operation certain aircraft under part 135 without a TSO-C112 (Mode S) transponder installed on their Piper PA31-310 N9149Z Serial No. 8112007 aircraft.

Grant, 9/29/2004, Exemption No. 7793B.

Docket No.: FAA-2004-19238.

Petitioner: Air West, Inc.

Section of 14 CFR Affected: 14 CFR 135.143(c)(2).

Description of Relief Sought/Disposition: To permit Air West, Inc., to operate certain aircraft under part 135 without a TSO-C112 (Mode S) transponder installed on those aircraft.

Grant, 10/1/2004, Exemption No. 8414.

Docket No.: FAA-2004-19213.

Petitioner: Helicopter Experts, Inc.

Section of 14 CFR Affected: 14 CFR 135.143(c)(2).

Description of Relief Sought/Disposition: To permit Helicopter Experts, Inc., to operate certain aircraft under part 135 without a TSO-C112 (Mode S) transponder installed on those aircraft.

Grant, 10/1/2004, Exemption No. 8415.

Docket No.: FAA-2003-15969.

Petitioner: Northern Air Cargo, Inc.

Section of 14 CFR Affected: 14 CFR 121.345(c)(2).

Description of Relief Sought/Disposition: To permit Northern Air Cargo, Inc., to operate certain aircraft under part 121 without a TSO-C112 (Mode S) transponder installed on those aircraft.

Grant, 10/1/2004, Exemption No. 8121B.

Docket No.: FAA-2002-17147.

Petitioner: Helicorp, Inc.

Section of 14 CFR Affected: 14 CFR 135.143(c)(2).

Description of Relief Sought/Disposition: To permit Helicorp, Inc., to operate certain aircraft under part 135 without a TSO-C112 (Mode S) transponder installed on those aircraft.

Grant, 10/1/2004, Exemption No. 7947A.

Docket No.: FAA-2003-14251.

Petitioner: Frontline Aviation, Inc.

Section of 14 CFR Affected: 14 CFR 135.143(c)(2).

Description of Relief Sought/Disposition: To permit Frontline Aviation, Inc., to operate certain aircraft, listed in the exemption, under part 135 with a TSO-C112 (Mode S) transponder installed on those aircraft.

Grant, 10/1/2004, Exemption No. 7987A.

Docket No.: FAA-2001-10414.

Petitioner: Air Cargo Carriers, Inc.

Section of 14 CFR Affected: 14 CFR 135.143(c)(2).

Description of Relief Sought/Disposition: To permit Air Cargo Carriers, Inc., to operate certain aircraft under part 135 without a TSO-C112 (Mode S) transponder installed on those aircraft.

Grant, 10/1/2004, Exemption No. 7124C.

Docket No.: FAA-2003-14545.

Petitioner: Temsco Helicopters, Inc.

Section of 14 CFR Affected: 14 CFR 135.143(c)(2).

Description of Relief Sought/Disposition: To permit Temsco Helicopters, Inc., to operate certain aircraft under part 135 without a TSO-C112 (Mode S) transponder installed on those aircraft.

Grant, 10/1/2004, Exemption No. 7993A.

Docket No.: FAA-2000-8143.

Petitioner: Peninsula Airways, Inc., d.b.a. PenAir.

Section of 14 CFR Affected: 14 CFR 135.143(c)(2).

Description of Relief Sought/Disposition: To permit Peninsula Airways, Inc., d.b.a. PenAir to operate certain aircraft under part 135 without a TSO-C112 (Mode S) transponder installed on those aircraft.

Grant, 10/1/2004, Exemption No. 7402B.

Docket No.: FAA-2002-12892.

Petitioner: Central Air Flight Training, LLC.

Section of 14 CFR Affected: 14 CFR 135.251, 135.255, and 135.353, and appendices I and J to part 121.

Description of Relief Sought/Disposition: To permit Central Air Flight Training, LLC, to conduct local sightseeing flights at the Columbiana County Airport, Liverpool, Ohio, for the Wings-N-Wheels airlift on or about September 19, 2004, with a rain date on or about September 26, 2004, for compensation or hire, complying with certain anti-drug and alcohol misuse prevention requirements of part 135, subject to the conditions and limitations.

Grant, 9/17/2004, Exemption No. 8411.

[FR Doc. 04-23256 Filed 10-15-04; 8:45 am]

BILLING CODE 4910-13-P